DEPARTMENT OF THE INTERIOR

Bureau of Land Management

[OR-038-1220-AL; HAG 05-0112]

National Historic Oregon Trail Interpretive Center Advisory Board Meeting

AGENCY: Bureau of Land Management (BLM).

ACTION: Meeting notice for National Historic Oregon Trail Interpretive Center Advisory Board

SUMMARY: The National Historic Oregon Trail Interpretive Center Advisory Board will meet June 1, 2005, from 1 to 5 p.m. (PDT) at the Best Western Sunridge Inn, One Sunridge Way, Baker City, Oregon.

Meeting topics may include the long-range marketing plan, education and outreach, the strategic plan versus budget, and other topics as may come before the board. The meeting is open to the public. Public comment is scheduled for 2 to 2:15 p.m.

FOR FURTHER INFORMATION CONTACT: Additional information concerning the National Historic Oregon Trail Interpretive Center Advisory Board may be obtained from Debbie Lyons, Public Affairs Officer, Vale District Office, 100 Oregon Street, Vale, Oregon 97918, (541) 473-6218 or e-mail Debra_Lyons@or.blm.gov.

Dated: April 26, 2005.
Tom Terry,
Acting District Manager.

[FR Doc. 05-8651 Filed 4-29-05; 8:45 am]

BILLING CODE 4310-33-P